SMALL BUSINESS ADMINISTRATION

Small Entity Compliance Guide: Women-Owned Small Business Program

AGENCY: Small Business Administration.

ACTION: Notice: Availability of Compliance Guide.

SUMMARY: The Small Business Administration (SBA) is announcing the availability of a compliance guide for the Women-Owned Small Business (WOSB) Program. This guide sets forth in plain language the requirements for participation in the WOSB program, and is intended to help small businesses understand the regulation and how it affects them.

FOR FURTHER INFORMATION CONTACT: Diane Heal, Assistant Director, Office of Contract Assistance, Office of Government Contracting, U.S. Small Business Administration, 409 Third Street, SW., Washington, DC 20416. For information about the WOSB Program visit the Web site at http://www.sba.gov/wosb.

SUPPLEMENTARY INFORMATION:

I. Background

On October 7, 2010 (75 FR 62258), the Small Business Administration (SBA) issued a final rule amending 13 CFR part 127, entitled “The Women-Owned Small Business Federal Contract Assistance Procedures,” and implementing procedures authorized by the Small Business Act (Pub. L. 85-536, as amended) to help ensure a level playing field on which Women-Owned Small Businesses (WOSBs) can compete for Federal contracting opportunities.

In particular, the final rule: Identifies 83 industries by four digit North American Industry Classification System codes in which WOSBs are underrepresented or substantially underrepresented; allows WOSBs and EDWOSBs to self-certify their status as long as adequate documents are provided to support the certification; allows WOSBs or EDWOSBs to be certified by approved third-party certifiers, including Federal agencies; sets forth the criteria to determine eligibility for the program; sets forth the contracting requirements for the program; and explains and expands the protest and eligibility examination process to ensure the eligibility of WOSBs or EDWOSBs for the program.

The SBA also stated in the rule that it is effective February 4, 2011 because the agency is in the process of working with the Federal Acquisition Regulatory Council to implement this program in the Federal Acquisition Regulations. In addition, the SBA is working with the Integrated Acquisition Environment to make changes to the various Federal procurement data systems, which will be affected by this rule.

Further, in the final rule the SBA examined the economic implications of the rule as required by the Regulatory Flexibility Act (5 U.S.C. 601-612) and determined that the rule would have a significant economic impact on a substantial number of small entities. In compliance with section 212 of the Small Business Regulatory Enforcement Fairness Act (Pub. L. 104-121), SBA is making available this Small Entity Compliance Guide, which explains in plain language the legal requirements of the WOSB Program, as set forth in the final rule.

II. Paperwork Reduction Act of 1995

This compliance guide refers to a new collection of information that is necessitated by the WOSB program regulations. This collection of information has been submitted to the Office of Management and Budget (OMB) for review and approval under the Paperwork Reduction Act of 1995 (44 U.S.C. 3501-3520). Approval is currently pending.

III. Electronic Access

Persons with access to the Internet may obtain the document at: http://www.sba.gov/wosb.

Dated: October 21, 2010.
Karen Hontz,
Director, Office of Government Contracting.

[FR Doc. 2010-27272 Filed 10-27-10; 8:45 am]

BILLING CODE 8025-01-P